DEPARTMENT OF ENERGY

Federal Energy Regulatory Commission

[Docket No. PF12-6-000]

Columbia Gas Transmission, LLC; Notice of Environmental Onsite Review

On June 13 and 14, 2012, the Office of Energy Projects (OEP) staff will conduct site visits of the proposed Line MB Loop Extension Project. The purpose of the onsite review is to review alternatives to the proposed pipeline route.

All interested parties planning to attend must provide their own transportation. Those attending should meet at the following locations:

• Wednesday, June 13 at 8:00 a.m. (EST) meet at the Garrison Forest Plaza Shopping Center Parking Lot, 10335 Reisterstown Road, Owings Mill, Maryland. The site visit will include pipeline route alternatives review in Baltimore County.

• Thursday, June 14 at 8:00 a.m. (EST) meet at the Paper Mill Village Shopping Center Parking Lot, 3320-3335 Paper Mill Road, Phoenix, Maryland. The site visit will include pipeline route alternatives review in Harford County.

The FERC offers a free service called eSubscription that allows you to keep track of all formal issuances and submittals in specific dockets. This can reduce the amount of time you spend researching proceedings by automatically providing you with notification of these filings, document summaries, and direct links to the documents. To register for this service, go to http://www.ferc.gov/esubscribenow.htm. Public meetings or site visits will be posted on the Commission's calendar located at http://www.ferc.gov/EventCalendar/EventsList.aspx along with other related information. For additional information contact Office of external affairs at 1-866-208-FERC (3372).

Dated: May 25, 2012.
Kimberly D. Bose,
Secretary.

[FR Doc. 2012-13280 Filed 5-31-12; 8:45 am]

BILLING CODE 6717-01-P